NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold thirty-four meetings, by video conference, of the Humanities Panel, a federal advisory committee, during March 2025. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. 10), notice is hereby given of the following meetings:

1. Date: March 6, 2025

This video meeting will discuss applications on the topic of Continuing State Partners, for the National Digital Newspaper grant program, submitted to the Division of Preservation and Access.

2. Date: March 12, 2025

This video meeting will discuss applications on the topics of Libraries, Archives, and Special Collections, for the Sustaining Cultural Heritage Collections grant program, submitted to the Division of Preservation and Access.

3. Date: March 13, 2025

This video meeting will discuss applications on the topics of Libraries, Archives, and Special Collections, for the Sustaining Cultural Heritage Collections grant program, submitted to the Division of Preservation and Access.

4. Date: March 17, 2025

This video meeting will discuss applications on the topic of Convening, for the Collaborative Research grant program, submitted to the Division of Research Programs.

5. Date: March 17, 2025

This video meeting will discuss applications on the topic of Planning International Collaboration, for the Collaborative Research grant program, submitted to the Division of Research Programs.

6. Date: March 18, 2025

This video meeting will discuss applications on the topic of Planning International Collaboration, for the Collaborative Research grant program, submitted to the Division of Research Programs.

7. Date: March 19, 2025

This video meeting will discuss applications on the topics of Manuscript Preparation and Scholarly Digital Projects: Archaeology and Anthropology, for the Collaborative Research grant program, submitted to the Division of Research Programs.

8. Date: March 19, 2025

This video meeting will discuss applications on the topics of Manuscript Preparation and Scholarly Digital Projects: Social Sciences, for the Collaborative Research grant program, submitted to the Division of Research Programs.

9. Date: March 19, 2025

This video meeting will discuss applications on the topic of Art Museums, for the Sustaining Cultural Heritage Collections grant program, submitted to the Division of Preservation and Access.

10. Date: March 24, 2025

This video meeting will discuss applications on the topic of United States History, for the Scholarly Editions and Translations grant program, submitted to the Division of Research Programs.

11. Date: March 24, 2025

This video meeting will discuss applications on the topics of AI, Culture, and Creativity, for the Humanities Research Centers on Artificial Intelligence grant program, submitted to the Division of Research Programs.

12. Date: March 24, 2025

This video meeting will discuss applications on the topics of Culture, Collections, and AI, for the Digital Humanities Advancement Grants program, submitted to the Office of Digital Humanities.

13. Date: March 25, 2025

This video meeting will discuss applications on the topics of Arts, Culture, and Public Humanities, for the Digital Humanities Advancement Grants program, submitted to the Office of Digital Humanities.

14. Date: March 25, 2025

This video meeting will discuss applications on the topic of Discussions, for the Public Humanities Projects: Exhibitions (Implementation) grant program, submitted to the Division of Public Programs.

15. Date: March 25, 2025

This video meeting will discuss applications on the topics of American and British Literature, for the Scholarly Editions and Translations grant program, submitted to the Division of Research Programs.

16. Date: March 25, 2025

This video meeting will discuss applications on the topics of Manuscript Preparation and Scholarly Digital Projects: History and Studies of Africa, Asia, and Europe, for the Collaborative Research grant program, submitted to the Division of Research Programs.

17. Date: March 25, 2025

This video meeting will discuss applications on the topic of American Material Culture, for the Sustaining Cultural Heritage Collections grant program, submitted to the Division of Preservation and Access.

18. Date: March 26, 2025

This video meeting will discuss applications on the topics of Archaeology, Anthropology, and Native American, for the Sustaining Cultural Heritage Collections grant program, submitted to the Division of Preservation and Access.

19. Date: March 26, 2025

This video meeting will discuss applications on the topics of Science and Nature, for the Public Humanities Projects: Exhibitions (Implementation) grant program, submitted to the Division of Public Programs.

20. Date: March 26, 2025

This video meeting will discuss applications on the topics of AI and Ethics, for the Humanities Research Centers on Artificial Intelligence grant program, submitted to the Division of Research Programs.

21. Date: March 27, 2025

This video meeting will discuss applications on the topics of Collections and Access, for the Digital Humanities Advancement Grants program, submitted to the Office of Digital Humanities.

22. Date: March 27, 2025

This video meeting will discuss applications on the topics of Hispanic and Indigenous Studies, for the Scholarly Editions and Translations grant program, submitted to the Division of Research Programs.

23. Date: March 27, 2025

This video meeting will discuss applications on the topic of Convening, for the Collaborative Research grant program, submitted to the Division of Research Programs.

24. Date: March 27, 2025

This video meeting will discuss applications on the topics of Historic Sites and Houses, for the Sustaining Cultural Heritage Collections grant program, submitted to the Division of Preservation and Access.

25. Date: March 27, 2025

This video meeting will discuss applications on the topic of U.S. History, for the Media Projects Production grant program, submitted to the Division of Public Programs.

26. Date: March 28, 2025

This video meeting will discuss applications on the topic of American Material Culture, for the Sustaining Cultural Heritage Collections grant program, submitted to the Division of Preservation and Access.

27. Date: March 28, 2025

This video meeting will discuss applications on the topics of Manuscript Preparation and Scholarly Digital Projects: Literature and Cultural Studies, for the Collaborative Research grant program, submitted to the Division of Research Programs.

28. Date: March 28, 2025

This video meeting will discuss applications on the topic of Art History, for the Public Humanities Projects: Exhibitions (Implementation) grant program, submitted to the Division of Public Programs.

29. Date: March 28, 2025

This video meeting will discuss applications on the topics of AI and Education, for the Humanities Research Centers on Artificial Intelligence grant program, submitted to the Division of Research Programs.

30. Date: March 31, 2025

This video meeting will discuss applications on the topics of AI and Trust, Truth, and Justice for the Humanities Research Centers on Artificial Intelligence grant program, submitted to the Division of Research Programs.

31. Date: March 31, 2025

This video meeting will discuss applications on the topics of Text Analysis and Languages, for the Digital Humanities Advancement Grants program, submitted to the Office of Digital Humanities.

32. Date: March 31, 2025

This video meeting will discuss applications on the topics of European Studies and Music, for the Scholarly Editions and Translations grant program, submitted to the Division of Research Programs.

33. Date: March 31, 2025

This video meeting will discuss applications on the topics of Manuscript Preparation and Scholarly Digital Projects: Communication and Media Studies, for the Collaborative Research grant program, submitted to the Division of Research Programs.

34. Date: March 31, 2025

This video meeting will discuss applications on the topics of Manuscript Preparation and Scholarly Digital Projects: History and Studies of the Americas, for the Collaborative Research grant program, submitted to the Division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chair's Delegation of Authority to Close Advisory Committee Meetings dated April 15, 2016.

Dated: February 14, 2025.
Jessica Graves,
Paralegal Specialist, National Endowment for the Humanities.

[FR Doc. 2025-02863 Filed 2-19-25; 8:45 am]

BILLING CODE 7536-01-P